DEPARTMENT OF COMMERCE

Bureau of Industry and Security

15 CFR Parts 740, 744, 772 and 774

[Docket No. 050218043-5043-01]

RIN 0694-AD42

Revisions to the Export Administration Regulations based on the 2004 Missile Technology Control Regime Plenary Agreements; Additions to the Entity List; Revisions to the Missile Catch-All Controls

AGENCY: Bureau of Industry and Security, Commerce.

ACTION: Final rule.

SUMMARY: The Bureau of Industry and Security (BIS) is amending the Export Administration Regulations (EAR), including various entries on the Commerce Control List (CCL), to reflect changes to the Missile Technology Control Regime (MTCR) Annex that were agreed to by MTCR member countries at the October 2004 Plenary in Seoul, South Korea, as well as the plenary decision to allow Bulgaria to become a member of the MTCR.

In addition to these changes, this rule adds four entities located in Syria to the Entity List. The Entity List is a compilation of end-users that present an unacceptable risk of using or diverting certain items to activities related to weapons of mass destruction. BIS requires a license for most exports or reexports to these entities and maintains the Entity List to inform the public of these license requirements.

Lastly, this rule revises the missile catch-all controls for Restrictions on Certain Rocket Systems, by clarifying that the general prohibition includes a license requirement for items that will be used, anywhere in the world except by governmental programs for nuclear weapons delivery of NPT Nuclear Weapons States that are also members of NATO, in “the design, development, production or use of” rocket systems or unmanned air vehicles, regardless of range capabilities, for the delivery of chemical, biological, or nuclear weapons. This is a clarification of revisions published November 8, 2004 (69 FR 64657).

EFFECTIVE DATE: This rule is effective: March 10, 2005.

FOR FURTHER INFORMATION CONTACT: Steven B. Clagett, Director, Nuclear and Missile Technology Controls Division, Bureau of Industry and Security, Telephone: (202) 482-1641.

SUPPLEMENTARY INFORMATION:

Background

The Missile Technology Control Regime (MTCR) is an export control arrangement among 34 nations, including the world's most advanced suppliers of ballistic missiles and missile-related materials and equipment. The regime establishes a common export control policy based on a list of controlled items (the Annex) and on guidelines (the Guidelines) that member countries follow to implement national export controls. The goal of maintaining the Annex and the Guidelines is to stem the flow of missile systems capable of delivering weapons of mass destruction to the global marketplace.

While the MTCR was originally created to prevent the spread of missiles capable of carrying a nuclear warhead, it was expanded in January 1993 to also cover delivery systems for chemical and biological weapons. The only absolute prohibition in the regime's Guidelines is on the transfer of complete “production facilities” for specially designed items in Category I of the MTCR Annex.

MTCR members voluntarily pledge to adopt the regime's export Guidelines and to restrict the export of items contained in the regime's Annex. The implementation of the regime's Guidelines is effectuated through the national export control laws and policies of the regime members.

This rule makes the following revisions to the Export Administration Regulations (EAR) to reflect changes to the Missile Technology Control Regime (MTCR) Annex agreed to at the October 2004 Plenary in Seoul, South Korea and to reflect the new membership of Bulgaria in the MTCR:

As a result of Bulgaria becoming a member of the Missile Technology Control Regime, the entry for Bulgaria in supplement No. 1 to part 740 (Country Group A) is revised by inserting an “X” in the box under column [A:2](Missile Technology Control Regime).

This rule amends Part 772 of the EAR to revise the definition for “Usable in” or “Capable of” (MTCR context) to now include “usable for” and “usable as” in the list of terms that are defined by this definition. In addition, the first sentence of this definition is revised from reading “Equipment, parts, components or ‘software’ that are suitable for a particular purpose.” to read “Equipment, parts, components, materials or ‘software’ which are suitable for a particular purpose.” (MTCR Annex change, Introduction, Definitions, Terminology)

In addition, the Commerce Control List (CCL) (EAR Part 774) is amended to reflect changes to the Missile Technology Control Regime (MTCR) Annex agreed to at the October 2004 Plenary in Seoul, South Korea. Changes to three ECCNs are expected to result in some increase in licensing activity, however the majority of these amendments reflect clarifications to the CCL that will result in no actual change to the control parameters of the affected ECCNs.

The following ECCNs are affected:

ECCN 1C007 is amended by changing the MT license requirement in the License Requirements section by increasing the frequency parameters from “100 Hz to 10,000 MHz for use in missile radomes” to read “100 MHz to 100 GHz for use in ‘missile’ radomes.” (MTCR Annex change, Category II: Item 6(C)(5)) This amendment is a clarification to the CCL that will result in an increase in the frequency parameters for the control parameters of this ECCN but will have only a minimal increase on licensing activity;

ECCN 1C107 is amended to correspond with a change made to the related MT license requirement in ECCN 1C007 by increasing the frequency parameters from “at frequencies from 100 Hz to 10 GHz” to read “at any frequency from 100 MHz to 100 GHz” (MTCR Annex change, Category II: Item 6(C)(5)) This amendment is a clarification to the CCL that will result in an increase in the frequency parameters for the control parameters of this ECCN but will have only a minimal increase on licensing activity.

ECCN 1C111 is amended by adding a sentence at the end of the “related controls” paragraph that reads “Solid oxidizer substances are subject to the export licensing authority of the U.S. Department of State, Directorate of Defense Trade Controls (See 22 CFR 121.1 Category V).” (clarification needed as a result of changes made at MTCR Plenary) This amendment is a clarification to the CCL that will result in no actual change in the control parameters of this ECCN.

ECCN 1C116 is amended by clarifying the heading by replacing the phrase “of 1,500 MPa or greater” with the phrase “equal to or greater than 1.5 GPa” (MTCR Annex change, Category II: Item 6(C)(8)) This amendment is a clarification to the control parameters of this ECCN, but will have a minimal increase on licensing activity.

ECCN 2A001 is amended by adding a new MT control to the CCL to control exports and reexports of “Radial ball bearings having all tolerances specified in accordance with ISO 492 Tolerance Class 2 (or ANSI/ABMA Std 20 Tolerance Class ABEC-9, or other national equivalents), or better and having all the following characteristics,” as described in the MT control of the License Requirements section of this ECCN. (MTCR Annex change, Category II: Item 3(A)(7)) As a result of this amendment, a new license requirement will be added to the CCL for Missile Technology controls that will result in an increase in license applications for ball bearings meeting the criteria of this ECCN.

ECCN 2B104 is amended by clarifying the language used in the 2B104.a parameter by inserting the phrase “equal to or greater than” before “69 MPa” (MTCR Annex change, Category II: Item 6(B)(3)(a)) This amendment is a clarification to the CCL that will result in no actual change in the control parameters of this ECCN.

ECCN 2B116 is amended:

(a) By changing the 2B116.a parameter from “at 10 g rms or more over the entire range 20 Hz to 2,000 Hz and imparting forces of 50 kN (11,250 lbs.)” to read “at an acceleration equal to or greater than 10 g rms between 20 Hz to 2,000 Hz and imparting forces equal to a greater than 50 kN (11,250 lbs.)” (MTCR Annex change, Category II: Item 15(B)(1)(a)) This amendment is a clarification to the CCL that will result in no actual change in the control parameters of this ECCN;

(b) By clarifying the language used in the 2B116.c parameter by replacing the phrase “of 50 kN (11,250 lbs.), measured ‘bare table’, or greater” with the phrase “equal to or greater than 50 kN (11,250 lbs.), measured ‘bare table’ ”. (MTCR Annex change, Category II: Item 15(B)(1)(c)) This amendment is a clarification to the CCL that will result in no actual change in the control parameters of this ECCN; and

(c) By clarifying the language used in 2B116.d parameter by replacing the phrase “of 50 kN, measured “bare table”, or greater” with the phrase “equal to or greater than 50 kN, measured “bare table” (MTCR Annex change, Category II: Item 15(B)(1)(d)) This amendment is a clarification to the CCL that will result in no actual change in the control parameters of this ECCN.

ECCN 9A106 is amended:

(a) By clarifying the language used in the 9A106.d parameter by replacing the phrase “of more than” with the phrase “greater than” before “10 g rms” (MTCR Annex change, Category II: Item 3(A)(5)) This amendment is a clarification to the CCL that will result in no actual change in the control parameters of this ECCN;

(b) By amending note (a) in the “items” paragraph to add the phrase “equal to or greater than” to clarify which servo valves are controlled by 9A106.d (MTCR Annex change, Category II: Item 3(A)(5) Notes (1)) This amendment is a clarification to the CCL that will result in no actual change in the control parameters of this ECCN; and

(c) By clarifying the language used in the 9A106.e parameter by replacing the phrase “of more than” with the phrase “greater than” before “10g rms” (MTCR Annex change, Category II: Item 10(A)(3)) This amendment is a clarification to the CCL that will result in no actual change in the control parameters of this ECCN.

ECCN 9A107 is amended by clarifying the heading by replacing the phrase “of 0.841 Mns or greater.” with the phrase “equal to or greater than 8.41 × 10⁵ Ns, but less than 1.1 × 10⁶ Ns.” (MTCR Annex change, Category II: Item 20(A)(1)(b)) This amendment is a clarification to the CCL that will result in no actual change in the control parameters of this ECCN.

ECCN 9B106 is amended:

(a) By changing the 9B106.a.1 parameter from “Vibration environments of 10 g rms or greater between 20 Hz and 2,000 Hz imparting forces of 5 kN or greater” to read “Vibration environments equal to or greater than 10 g rms, measured ‘bare table’, between 20 Hz and 2,000 Hz imparting forces equal to or greater than 5 kN” (MTCR Annex change, Category II: Item 15(B)(4)(a)(1)) This amendment is a clarification to the CCL that will result in no actual change in the control parameters of this ECCN;

(b) By clarifying the language used in the 9B106.a.2.a parameter by replacing the phrase “Altitude of 15,000 m or greater” with the phrase “Altitude equal to or greater than 15,000 m” (MTCR Annex change, Category II: Item 15(B)(4)(a)(2)(a)) This amendment is a clarification to the CCL that will result in no actual change in the control parameters of this ECCN;

(c) By adding a technical note to specify that paragraph 9B106.a describes systems that are capable of generating a vibration environment with a single wave (e.g., a sine wave) and systems capable of generating a broad band random vibration (i.e., power spectrum)” (MTCR Annex change, Category II: Item 15(B)(4) Technical note) This amendment is a clarification to the CCL that will result in no actual change in the control parameters of this ECCN;

(d) By changing the type of chambers covered in the 9B106.b parameter from “Anechoic chambers” to “Environmental chambers capable of simulating all of the following flight conditions' (MTCR Annex change, Category II: Item 15(B)(4)(b)) This amendment is a clarification to the CCL that will result in a change in the control parameters of this ECCN but will have only a minimal impact on licensing activity;

(e) By changing the 9B106.b.1 parameter from “a rated power output of 4 kW or greater” to read “a total rated acoustic power output of 4kW or greater” (MTCR Annex change, Category II: Item 15(B)(4)(b)(1)) This amendment is a clarification to the CCL that will result in no actual change in the control parameters of this ECCN; and

(f) By clarifying the language used in the 9B106.b.2.a parameter by replacing the phrase “Altitude of 15,000 m or greater” with the phrase “Altitude equal to or greater than 15,000 m”. (MTCR Annex change, Category II: Item 15(B)(4)(b)(2)(a)) This amendment is a clarification to the CCL that will result in no actual change in the control parameters of this ECCN.

ECCN 9B117 is amended:

(a) By clarifying the heading by replacing the phrase “rockets or rocket motors” with the phrase “rockets, motors or rocket engines”. (clarification to be consistent with the MTCR change made to 9B117.a) This amendment is a clarification to the heading of this ECCN and will have only a minimal impact on licensing activity; and

(b) By changing the 9B117.a parameter from “capacity to handle more than 90 kN of thrust” to read “capacity to handle solid or liquid propellant rocket motors or rocket engines having a thrust greater than 90 kN”. (MTCR Annex change, Category II: Item 15(B)(3)) This amendment is a clarification to the control parameters of this ECCN and will have a minimal impact on licensing activity.

This rule also makes the following revisions to the EAR:

Pursuant to Section 744.3(b), this rule amends Supplement No. 4 to part 744 (the Entity List) by adding four entities located in Syria to the Entity List. This notifies the public that a license is required for the export or reexport of all items subject to the EAR to the Higher Institute of Applied Science and Technology (HIAST), Industrial Establishment of Defense (IED), National Standards and Calibration Laboratory (NSCL), and the Scientific Studies and Research Center (SSRC). License applications to export or reexport items subject to the EAR to these entities will be reviewed with a presumption of denial.

This rule revises the license requirement imposed in 744.3(a)(2) (Restrictions on Certain Rocket Systems), by clarifying that the general prohibition now includes a license requirement for items that will be used, anywhere in the world, except by governmental programs for nuclear weapons delivery of NPT Nuclear Weapons States that are also members of NATO, in “the design, development, production or use of” rocket systems or unmanned air vehicles, regardless of range capabilities, for the delivery of chemical, biological, or nuclear weapons.

Savings Clause

Shipments of items removed from eligibility for a License Exception or export or reexport without a license (NLR) as a result of this regulatory action that were on dock for loading, on lighter, laden aboard an exporting or reexporting carrier, or en route aboard a carrier to a port of export or reexport, on March 10, 2005, pursuant to actual orders for export or reexport to a foreign destination, may proceed to that destination under the previous eligibility for a License Exception or export or reexport without a license (NLR) so long as they are exported or reexported before April 11, 2005. Any such items not actually exported or reexported before midnight, on April 11, 2005, require a license in accordance with this rule.

Although the Export Administration Act expired on August 20, 2001, Executive Order 13222 of August 17, 2001 (3 CFR, 2001 Comp., p. 783 (2002)), as extended by the Notice of August 6, 2004, 69 FR 48763 (August 10, 2004) continues the Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule involves a collection of information subject to the Paperwork Reduction Act of 1980 (44 U.S.C. 3501 et seq.). This collection has been approved by the Office of Management and Budget under control number 0694-0088, “Multi-Purpose Application,” which carries a burden hour estimate of 58 minutes for a manual or electronic submission. Send comments regarding these burden estimates or any other aspect of these collections of information, including suggestions for reducing the burden, to David Rostker, Office of Management and Budget (OMB), by e-mail to David_Rostker@omb.eop.gov, or by fax to (202) 395-7285; and to the Office of Administration, Bureau of Industry and Security, Department of Commerce, 14th and Pennsylvania Avenue, NW., Room 6883, Washington, DC 20230.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Timothy Mooney, Office of Exporter Services, Bureau of Industry and Security, Department of Commerce, PO Box 273, Washington, DC 20044.

List of Subjects

15 CFR Part 740

Administrative practice and procedure, Exports, Reporting and recordkeeping requirements.

15 CFR Part 744

Exports, Reporting and recordkeeping requirements, Terrorism.

15 CFR Part 772

Exports.

15 CFR Part 774

Exports, Reporting and recordkeeping requirements.

Accordingly, parts 740, 744, 772 and 774 of the Export Administration Regulations (15 CFR parts 730-799) are amended as follows:

PART 740—[AMENDED]

1. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 6, 2004, 69 FR 48763 (August 10, 2004).

SUPPLEMENT NO. 1 TO PART 740—[AMENDED]

2. Supplement No. 1 to part 740—Country Group A is amended in the entry for “Bulgaria” by adding an “X” in the [A:2] (Missile Technology Control Regime) column.

PART 744—[AMENDED]

3. The authority citation for 15 CFR part 744 continues to read as follows:

Authority: 50 U.S.C. app. 2401 et seq.; 50 U.S.C. 1701 et seq.; 22 U.S.C. 3201 et seq.; 42 U.S.C. 2139a; Sec. 901-911, Pub. L. 106-387; Sec. 221, Pub. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 6, 2004, 69 FR 48763 (August 10, 2004); Notice of November 4, 2004, 69 FR 64637 (November 8, 2004).

§ 744.3 [Amended]

4. Section 744.3 is amended by revising the phrase “anywhere in the world, in rocket systems or unmanned air vehicles” in paragraph (a)(2) to read “anywhere in the world except by governmental programs for nuclear weapons delivery of NPT Nuclear Weapons States that are also members of NATO, in the design, development, production or use of rocket systems or unmanned air vehicles”.

5. Supplement No. 4 to part 744 is amended by adding, in alphabetical order, the following country and entities:

Supplement No. 4 to Part 744—Entity List
Country | Entity | License requirement | License review policy | Federal Register citation
* * * * *
Syria | Higher Institute of Applied Science and Technology (HIAST) | For all items subject to the EAR. (see § 744.3 of the EAR) | Presumption of denial | 70 FR [INSERT FR PAGE NUMBER, 3/10/05.]
| Industrial Establishment of Defense (IED) | For all items subject to the EAR. (see § 744.3 of the EAR) | Presumption of denial | 70 FR [INSERT PAGE NUMBER, 3/10/05.]
| National Standards and Calibration Laboratory (NSCL) | For all items subject to the EAR. (see § 744.3 of the EAR) | Presumption of denial | 70 FR [INSERT FR PAGE NUMBER, 3/10/05.]
| Scientific Studies and Research Center (SSRC) | For all items subject to the EAR. (see § 744.3 of the EAR) | Presumption of denial | 70 FR [INSERT FR PAGE NUMBER, 3/10/05.]

* * * * *

PART 772—[AMENDED]

6. The authority citation for 15 CFR part 772 continues to read as follows:

Authority: 50 U.S.C. app. 2401 et seq.; 50 U.S.C. 1701 et seq.; E.O. 13222, 66 FR 44025, 3 CFR, 2001 Comp., p. 783; Notice of August 6, 2004, 69 FR 48763 (August 10, 2004).

7. In section 772.1 of the EAR, revise the definition of “Usable in or Capable of”. (MTCR context), as set forth below:

§ 772.1 Definitions of terms as used in the Export Administration Regulations (EAR).

* * * * *

“Usable in”, “usable for”, “usable as” or “Capable of”. (MTCR context)—Equipment, parts, components, materials or “software” which are suitable for a particular purpose. There is no need for the equipment, parts, components, materials or “software” to have been configured, modified or specified for the particular purpose. For example, any military specification memory circuit would be “capable of” operation in a guidance system.

* * * * *

PART 774—[AMENDED]

8. The authority citation for 15 CFR part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 6, 2004, 69 FR 48763 (August 10, 2004).

9. In Supplement No. 1 to part 774 (the Commerce Control List), Category 1—Materials, Chemicals, “Microorganisms” & “Toxins”, Export Control Classification Number (ECCN) 1C007 is amended by revising the License Requirements section, to read as follows:

SUPPLEMENT NO. 1 TO PART 744—THE COMMERCE CONTROL LIST

* * * * *

1C007 Ceramic Base Materials, Non-“Composite” Ceramic Materials, Ceramic-“Matrix” “Composite” Materials and Precursor Materials, as Follows (see List of Items Controlled)

License Requirements

Reason for Control: NS, MT, AT
Control(s) | Country Chart
NS applies to entire entry | NS Column 2.
MT applies to items in 1C007.d and .f when the dielectric constant is less than 6 at any frequency from 100 MHz to 100 GHz for use in “missile” radomes | MT Column 1.
AT applies to entire entry | AT Column 1.

License Requirement Notes: See § 743.1 of the EAR for reporting requirements for exports under License Exceptions.

* * * * *

10. In Supplement No. 1 to part 774 (the Commerce Control List), Category 1—Materials, Chemicals, “Microorganisms” & “Toxins”, Export Control Classification Number (ECCN) 1C107 is amended by revising the “items” paragraph in the List of Items Controlled section, to read as follows:

1C107 Graphite and Ceramic Materials, Other Than Those Controlled by 1C007, as Follows (see List of Items Controlled)

* * * * *

List of Items Controlled

Unit: * * *

Related Controls: * * *

Related Definitions: * * *

Items:

a. Fine grain recrystallized bulk graphites with a bulk density of 1.72 g/cm³ or greater, measured at 288 K (15 °C), and having a particle size of 100 micrometers or less, usable for rocket nozzles and reentry vehicle nose tips as follows:

a.1. Cylinders having a diameter of 120 mm or greater and a length of 50 mm or greater;

a.2. Tubes having an inner diameter of 65 mm or greater and a wall thickness of 25 mm or greater and a length of 50 mm or greater;

a.3. Blocks having a size of 120 mm x 120 mm x 50 mm or greater.

b. Pyrolytic or fibrous reinforced graphites, usable for rocket nozzles and reentry vehicle nose tips;

c. Ceramic composite materials (dielectric constant is less than 6 at any frequency from 100 MHz to 100 GHz), for use in “missile” radomes; and

d. Bulk machinable silicon-carbide reinforced unfired ceramic, usable for nose tips.

11. In Supplement No. 1 to part 774 (the Commerce Control List), Category 1—Materials, Chemicals, “Microorganisms” & “Toxins”, Export Control Classification Number (ECCN) 1C111 is amended by revising the “related controls” paragraph in the List of Items Controlled section, to read as follows:

1C111 Propellants and Constituent Chemicals for Propellants, Other Than Those Specified in 1C011, as Follows (See List of Items Controlled)

* * * * *

List of Items Controlled

Unit: * * *

Related Controls: (1) Butacene as defined by 1C111.c.1 is subject to the export licensing authority of the U.S. Department of State, Directorate of Defense Trade Controls. (See 22 CFR 121.12(b)(6), other ferrocene derivatives). (2) See 1C018 for controls on oxidizers that are composed of fluorine and one or more of the following—other halogens, oxygen, or nitrogen. Solid oxidizer substances are subject to the export licensing authority of the U.S. Department of State, Directorate of Defense Trade Controls (See 22 CFR 121.1 Category V).

Related Definitions: * * *

Items: * * *

12. In Supplement No. 1 to part 774 (the Commerce Control List), Category 1—Materials, Chemicals, “Microorganisms” & “Toxins”, Export Control Classification Number (ECCN) 1C116 is amended by revising the Heading, to read as follows:

1C116 Maraging Steels (Steels Generally Characterized by High Nickel, Very Low Carbon Content and the Use of Substitutional Elements or Precipitates To Produce Age-Hardening) Having an Ultimate Tensile Strength Equal to or Greater Than 1.5 GPa, Measured at 293 K (20 °C), in the Form of Sheet, Plate or Tubing With a Wall or Plate Thickness Equal to or Less Than 5 mm

* * * * *

13. In Supplement No. 1 to part 774 (the Commerce Control List), Category 2—Materials Processing, Export Control Classification Number (ECCN) 2A001 is amended by revising the License Requirements section, and the License Exceptions section, to read as follows:

2A001 Anti-Friction Bearings and Bearing Systems, as Follows, (See List of Items Controlled) and Components Therefor

License Requirements

Reason for Control: NS, MT, AT
Control(s) | Country Chart
NS applies to entire entry | NS Column 2.
MT applies to radial ball bearings having all tolerances specified in accordance with ISO 492 Tolerance Class 2 (or ANSI/ABMA Std 20 Tolerance Class ABEC-9, or other national equivalents) or better and having all the following characteristics: An inner ring bore diameter between 12 and 50 mm; an outer ring outside diameter between 25 and 100 mm; and a width between 10 and 20 mm. | MT Column 1.
AT applies to entire entry | AT Column 1.

License Exceptions

LVS: $3000, N/A for MT

GBS: Yes, for 2A001.a and 2A001.b, N/A for MT

CIV: Yes, for 2A001.a and 2A001.b, N/A for MT

* * * * *

14. In Supplement No. 1 to part 774 (the Commerce Control List), Category 2—Materials Processing, Export Control Classification Number (ECCN) 2B104 is amended by revising the “items” paragraph in the List of Items Controlled section, to read as follows:

2B104 “Isostatic Presses”, Other Than Those Controlled by 2B004, Having All of the Following Characteristics (See List of Items Controlled)

* * * * *

List of Items Controlled

Unit: * * *

Related Controls: * * *

Related Definitions: * * *

Items:

a. Maximum working pressure equal to or greater than 69 MPa;

b. Designed to achieve and maintain a controlled thermal environment of 873 K (600° C) or greater; and

c. Possessing a chamber cavity with an inside diameter of 254 mm or greater.

15. In Supplement No. 1 to part 774 (the Commerce Control List), Category 2—Materials Processing, Export Control Classification Number (ECCN) 2B116 is amended by revising the “items” paragraph in the List of Items Controlled section, to read as follows:

2B116 Vibration Test Systems, Equipment and Components Therefor, as Follows (See List of Items Controlled)

* * * * *

List of Items Controlled

Unit: * * *

Related Controls: * * *

Related Definitions: * * *

Items:

a. Vibration test systems employing feedback or closed loop techniques and incorporating a digital controller, capable of vibrating a system at an acceleration equal to or greater than 10 g rms between 20 Hz to 2,000 Hz and imparting forces equal to or greater than 50 kN (11,250 lbs.), measured “bare table”;

b. Digital controllers, combined with specially designed vibration test “software”, with a real-time bandwidth greater than 5 kHz and designed for use with vibration test systems described in 2B116.a;

c. Vibration thrusters (shaker units), with or without associated amplifiers, capable of imparting a force equal to or greater than 50 kN (11,250 lbs.), measured ‘bare table’, and usable in vibration test systems described in 2B116.a;

d. Test piece support structures and electronic units designed to combine multiple shaker units into a complete shaker system capable of providing an effective combined force equal to or greater than 50 kN, measured ‘bare table’, and usable in vibration test systems described in 2B116.a.

Technical Note: ‘bare table’ means a flat table, or surface, with no fixture or fitting.

16. In Supplement No. 1 to part 774 (the Commerce Control List), Category 9—Propulsion Systems, Space Vehicles, and Related Equipment, Export Control Classification Number (ECCN) 9A106 is amended by revising the “items” paragraph in the List of Items Controlled section, to read as follows:

9A106 Systems or Components, Other Than Those Controlled by 9A006, Usable in “Missiles”, as Follows (see List of Items Controlled), and Specially Designed for Liquid Rocket Propulsion Systems

* * * * *

List of Items Controlled

Unit: * * *

Related Controls: * * *

Related Definitions: * * *

Items:

a. Ablative liners for thrust or combustion chambers;

b. Rocket nozzles;

c. Thrust vector control sub-systems;

Technical Note: Examples of methods of achieving thrust vector control controlled by 9A106.c includes:

1. Flexible nozzle;

2. Fluid or secondary gas injection;

3. Movable engine or nozzle;

4. Deflection of exhaust gas steam (jet vanes or probes); or

5. Thrust tabs.

d. Liquid and slurry propellant (including oxidizers) control systems, and specially designed components therefor, designed or modified to operate in vibration environments greater than 10 g rms between 20 Hz and 2000 Hz.

Note: The only servo valves and pumps controlled by 9A106.d, are the following:

a. Servo valves designed for flow rates equal to or greater than 24 liters per minute, at an absolute pressure equal to or greater than 7 MPa, that have an actuator response time of less than 100 ms;

b. Pumps, for liquid propellants, with shaft speeds equal to or greater than 8,000 rpm or with discharge pressures equal to or greater than 7 MPa.

e. Flight control servo valves designed or modified for use in “missiles” and designed or modified to operate in a vibration environment greater than 10g rms over the entire range between 20Hz and 2 kHz.

17. In Supplement No. 1 to part 774 (the Commerce Control List), Category 9—Propulsion Systems, Space Vehicles and Related Equipment, Export Control Classification Number (ECCN) 9A107 is amended by revising the Heading, to read as follows:

9A107 Solid Propellant Rocket Engines, Usable in Rockets With a Range Capability of 300 Km or Greater, Other Than Those Controlled by 9A007, Having Total Impulse Capacity Equal to or Greater Than 8.41 × 10⁵ Ns, but less than 1.1 × 10⁶ (These Items are Subject to the Export Licensing Authority of the U.S. Department of State, Directorate of Defense Trade Controls. See 22 CFR part 121.)

* * * * *

18. In Supplement No. 1 to part 774 (the Commerce Control List), Category 9—Propulsion Systems, Space Vehicles and Related Equipment, Export Control Classification Number (ECCN) 9B106 is amended by revising the “items” paragraph of the List of Items Controlled section, to read as follows:

9B106 Environmental Chambers and Anechoic Chambers, as Follows (see List of Items Controlled)

* * * * *

List of Items Controlled

Unit: * * *

Related Controls: * * *

Related Definitions: * * *

Items:

a. Environmental chambers capable of simulating all of the following flight conditions:

a.1. Vibration environments equal to or greater than 10 g rms, measured “bare table”, between 20 Hz and 2,000 Hz imparting forces equal to or greater than 5 kN; and

a.2. Any of the following:

a.2.a. Altitude equal to or greater than 15,000 m; or

a.2.b. Temperature range of at least 223 K (−50° C) to 398 K (+125° C);

Technical Note: Item 9B106.a describes systems that are capable of generating a vibration environment with a single wave (e.g., a sine wave) and systems capable of generating a broad band random vibration (i.e., power spectrum).

b. Environmental chambers capable of simulating all of the following flight conditions:

b.1. Acoustic environments at an overall sound pressure level of 140 dB or greater (referenced to 2 × 10⁻⁵ N/m²) or with a total rated acoustic power output of 4kW or greater; and

b.2. Any of the following:

b.2.a. Altitude equal to or greater than 15,000 m; or

b.2.b. Temperature range of at least 223K (−50° C) to 398 K (+125° C).

19. In Supplement No. 1 to part 774 (the Commerce Control List), Category 9—Propulsion Systems, Space Vehicles and Related Equipment, Export Control Classification Number (ECCN) 9B117 is amended by revising the Heading, and the “items” paragraph in the List of Items Controlled section, to read as follows:

9B117 Test Benches and Test Stands for Solid or Liquid Propellant Rockets, Motors or Rocket Engines, Having Either of the Following Characteristics (see List of Items Controlled)

* * * * *

List of Items Controlled

Unit: * * *

Related Controls: * * *

Related Definitions: * * *

Items:

a. The capacity to handle solid or liquid propellant rocket motors or rocket engines having a thrust greater than 90 kN; or

b. Capable of simultaneously measuring the three axial thrust components.

Dated: March 3, 2005.
Matthew S. Borman,
Deputy Assistant Secretary for Export Administration.

[FR Doc. 05-4626 Filed 3-9-05; 8:45 am]

BILLING CODE 3510-33-P